TENNESSEE VALLEY AUTHORITY

Meeting of the Regional Energy Resource Council

AGENCY: Tennessee Valley Authority (TVA).

ACTION: Notice of meeting.

SUMMARY: The TVA Regional Energy Resource Council (RERC) will hold a meeting on July 16, 2024, to receive an update and provide advice on the development of TVA's next Integrated Resource Plan (IRP). The IRP provides strategic direction on how TVA will continue to provide low-cost, reliable, resilient, and increasingly cleaner electricity to the 10 million residents of the Valley region.

DATES: The meeting will be held in Knoxville, Tennessee, at the Downtown Knoxville Marriott on Tuesday, July 16, 2024, from 8:30 a.m. to 4:00 p.m. ET. RERC members are invited to attend the meeting in person. The public is invited to view the meeting virtually or attend in person. A one-hour public listening session for the public to present comments virtually or in person will be held July 16, 2024, at 1:30 p.m. ET. A link and instructions to view the meeting will be posted on TVA's RERC website at www.tva.com/rerc prior to the meeting.

ADDRESSES: The meeting will take place at the Downtown Knoxville Marriott at 525 Henley St., Knoxville, TN 37902. The meeting will also be available virtually to the public. Instructions to view the meeting will be posted at www.tva.com/rerc prior to the meeting. Persons who wish to speak virtually during the public listening session must pre-register by 5:00 p.m. ET Friday, July 12, 2024, by emailing bhaliti@tva.gov. Persons wishing to speak in person are requested to register either at the door between 8:30 a.m. and 11:30 a.m. ET on Tuesday, July 16, 2024, or in advance by emailing bhaliti@tva.gov. Anyone needing special accommodations should let the contact below know at least one week in advance.

FOR FURTHER INFORMATION CONTACT: Bekim Haliti, bhaliti@tva.gov or 931-349-1894.

SUPPLEMENTARY INFORMATION: The RERC was established to advise TVA on its energy resource activities and the priorities among competing objectives and values. Notice of this meeting is given under the Federal Advisory Committee Act (FACA), 5 U.S.C. 10.

The meeting agenda includes the following:

July 16

1. Welcome and Introductions

2. RERC and TVA Meeting Update

3. Integrated Resource Plan Updates

a. IRP Overview

b. Scenario and Strategy Updates

c. Resource Costs

d. Stakeholder Engagement Updates

4. Public Listening Session

5. Integrated Resource Plan discussion and advice statement

The RERC will hear views of citizens by providing a one-hour public comment session starting July 16 at 1:30 p.m. ET. Persons wishing to speak virtually must register by sending an email to bhaliti@tva.gov or by calling 931-349-1894 by 5:00 p.m. ET, on Friday, July 12, 2024. Persons wishing to speak in person are requested to register either at the door between 8:30 a.m. and 11:30 a.m. ET on Tuesday, July 16, 2024, or in advance by emailing bhaliti@tva.gov. Persons registered will be called on during the public listening session to share their views for up to five minutes, depending on number of registrants. Written comments are also invited and may be emailed to bhaliti@tva.gov.

Dated: June 24, 2024.
Melanie Farrell,
Vice President, External Stakeholders and Regulatory Oversight, Tennessee Valley Authority.

[FR Doc. 2024-14871 Filed 7-5-24; 8:45 am]

BILLING CODE 8120-08-P